OVERSEAS PRIVATE INVESTMENT CORPORATION

Sunshine Notice; Board of Directors Meeting; September 22, 2011

TIME AND DATE: Thursday, September 22, 2011, 10 a.m. (Open Portion), 10:15 a.m. (Closed Portion).

PLACE: Offices of the Corporation, Twelfth Floor Board Room, 1100 New York Avenue, NW., Washington, DC.

STATUS: Meeting Open to the Public from 10 a.m. to 10:15 a.m., Closed portion will commence at 10:15 a.m. (approx.).

MATTERS TO BE CONSIDERED:

1. President's Report.

2. Approval of June 23, 2011 Minutes (Open Session).

FURTHER MATTERS TO BE CONSIDERED: (Closed to the Public 10:15 a.m.)

1. Reports.

2. Proposed FY 2013 Budget.

3. Recommendations of the Ad-Hoc Board Committee on Governance.

4. Finance Project—India.

5. Finance Project—Nigeria.

6. Finance Project—Thailand.

7. Finance Project—Kenya.

8. Approval of June 2, 2011 Minutes (Closed Session).

9. Approval of the June 23, 2011 Minutes (Closed Session).

10. Pending Major Projects.

Written summaries of the projects to be presented will be posted on OPIC's Web site on or about September 1, 2011.

FOR FURTHER INFORMATION CONTACT: Information on the meeting may be obtained from Connie M. Downs at (202) 336-8438.

Connie M. Downs,
Corporate Secretary, Overseas Private Investment Corporation.

[FR Doc. 2011-22794 Filed 9-1-11; 11:15 am]

BILLING CODE 3210-01-P